INTERNATIONAL TRADE COMMISSION

[Investigation 332-441]

Probable Economic Effect of the Reduction or Elimination of Foreign Tariffs

AGENCY: International Trade Commission.

ACTION: Institution of investigation and scheduling of public hearing.

EFFECTIVE DATE: February 28, 2002.

SUMMARY: Following receipt of a request on February 11, 2002, from the United States Trade Representative (USTR), the Commission instituted investigation No. 332-441, Probable Economic Effect of the Reduction or Elimination of Foreign Tariffs, under section 332(g) of the Tariff Act of 1930 (19 U.S.C. 1332(g)).

As requested by USTR, the Commission will provide advice, at the most disaggregated level feasible, on the probable economic effect on U.S. industry sectors and U.S. exports if U.S. trading partners reduce or eliminate their tariffs as a result of the WTO and FTAA negotiations. Specifically, the Commission will provide advice on the effect on U.S. exports and major U.S. agricultural and industrial sectors, as the Commission defines them, if:

• All U.S. trading partners eliminate their tariffs of 5 percent ad valorem or below and reduce all other tariffs by 50 percent;

• All U.S. trading partners eliminate their tariffs; and

• All FTAA countries eliminate their tariffs.

The Commission will provide its advice on the effect of reduction or elimination of foreign tariffs no later than November 22, 2002.

FOR FURTHER INFORMATION CONTACT: Industry-specific information may be obtained from Robert Carr, Project Leader (202-205-3402), or George Serletis, Deputy Project Leader (202-205-3315), Office of Industries, U.S. International Trade Commission, Washington, DC 20436. For information on the legal aspects of this investigation, contact William Gearhart of the Office of the General Counsel (202-205-3091). The media should contact Peg O'Laughlin of the Office of External Relations (202-205-1819). Hearing impaired individuals are advised that information on this matter can be obtained by contacting the TDD terminal on (202) 205-1810.

Background

In his letter to the Commission, the USTR noted that the United States will enter into multilateral negotiations on market access for industrial products as called for under the WTO Ministerial Declaration issued in Doha last November. In addition, he noted that WTO negotiations on trade in agriculture are expected to intensify this year and that the United States will begin negotiations on agricultural and non-agricultural tariffs later this year as part of broader negotiations toward establishing the Free Trade Area of the Americas (FTAA).

Public Hearing

A public hearing in connection with the investigation will be held at the U.S. International Trade Commission Building, 500 E Street SW, Washington, DC, beginning at 9:30 a.m. on May 3, 2002. All persons shall have the right to appear, by counsel or in person, to present information and to be heard. Requests to appear at the public hearing should be filed with the Secretary, United States International Trade Commission, 500 E Street SW, Washington, DC 20436, no later than 5:15 p.m., April 17, 2002. Any prehearing briefs (original and 14 copies) should be filed not later than 5:15 p.m., April 19, 2002; the deadline for filing post-hearing briefs or statements is 5:15 p.m., May 13, 2002. In the event that, as of the close of business on April 17, 2002, no witnesses are scheduled to appear at the hearing, the hearing will be canceled. Any person interested in attending the hearing as an observer or non-participant may call the Secretary of the Commission (202-205-1806) after April 17, 2002, to determine whether the hearing will be held.

Written Submissions

In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of § 201.6 of the Commission's rules of practice and procedure (19 CFR 201.6). All written submissions, except for confidential business information, will be made available in the Office of the Secretary of the Commission for inspection by interested parties. The Commission may include some or all of the confidential business information submitted by interested parties in its report to the USTR. To be assured of consideration by the Commission, written statements relating to the Commission's report should be submitted to the Commission at the earliest practical date and should be received no later than the close of business on May 13, 2002. All submissions should be addressed to the Secretary, United States International Trade Commission, 500 E Street SW, Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

List of Subjects WTO, FTAA, tariffs, and exports.

Issued: March 1, 2002.
By order of the Commission.
Marilyn R. Abbott,
Acting Secretary.

[FR Doc. 02-5514 Filed 3-7-02; 8:45 am]

BILLING CODE 7020-02-P